ENVIRONMENTAL PROTECTION AGENCY

40 CFR Part 52

[EPA-R04-OAR-2015-0618; FRL-9945-22-Region 4]

Air Plan Approval; Tennessee: Knox County VOC Limits Revision for Permits

AGENCY: Environmental Protection Agency.

ACTION: Direct final rule.

SUMMARY: The Environmental Protection Agency (EPA) is taking direct final action to approve a portion of a revision to the Tennessee State Implementation Plan (SIP) submitted on March 14, 2014, by the State of Tennessee, through the Tennessee Department of Environmental Conservation (TDEC) on behalf of the Knox County Department of Air Quality Management (Knox County) to address changes to a Knox County regulation regarding permits. EPA has determined that Tennessee's requested SIP revision is consistent with the applicable provisions of the Clean Air Act (CAA or Act).

DATES: This direct final rule is effective June 21, 2016 without further notice, unless EPA receives adverse comment by May 23, 2016. If EPA receives such comments, it will publish a timely withdrawal of the direct final rule in the Federal Register informing the public that the rule will not take effect.

ADDRESSES: Submit your comments, identified by Docket ID No. EPA-R04-OAR-2015-0618 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Zuri Farngalo or D. Brad Akers, Air Regulatory Management Section, Air Planning and Implementation Branch, Air, Pesticides and Toxics Management Division, U.S. Environmental Protection Agency, Region 4, 61 Forsyth Street SW., Atlanta, Georgia 30303-8960. Mr. Farngalo can be reached at (404) 562-9152 and via electronic mail at farngalo.zuri@epa.gov. Mr. Akers can be reached at (404) 562-9089 and via electronic mail at akers.brad@epa.gov.

SUPPLEMENTARY INFORMATION:

I. Background

On March 14, 2014, TDEC submitted to EPA several revisions to the Knox County portion of the Tennessee SIP. At this time, EPA is acting on one portion of the submittal: Section 25 of the Knox County Air Quality Management Regulations, Permits, has been revised to add regulations that streamline the permitting process for sources that have the potential to emit volatile organic compounds (VOC), and EPA is approving the incorporation of that revision into the Tennessee SIP. The submittal also included revisions to section 25.6, adding a permit exemption, and to section 26.5, adding a requirement that certain sources of oxides of nitrogen and VOC submit an annual emissions statement. The revision to section 25.6 was withdrawn from the submittal in an August 7, 2015, letter sent to EPA by TDEC on behalf of Knox County, a copy of which is included in the Docket for today's action. EPA approved the revision to section 26.5 on November 5, 2015. See 80 FR 68448. Therefore, today's final rule completes EPA's action with respect to the March 14, 2014, submittal.

II. Analysis of Tennessee's Submittal

The portion of Tennessee's March 14, 2014, SIP submittal that EPA is approving today is the addition to the Knox County Air Quality Management Regulations of section 25.11, Limiting a Source's Potential to Emit of VOC by Recordkeeping, which sets forth recordkeeping and reporting requirements for a source that has the potential to emit above the major-source threshold but that prefers to be a synthetic minor source (i.e., to accept limits lower than the major-source threshold of 100 tons per year). Section 25.11 establishes a three-tiered system of recordkeeping and reporting requirements, whereby sources that elect to set their limits at the highest threshold have the most stringent requirements and sources that opt for the lowest threshold have the least stringent requirements. These changes are consistent with “Guidance for State Rules for Optional Federally-Enforceable Emissions Limits Based on Volatile Organic Compound (VOC) Use” and “Potential to Emit (PTE) Guidance for Specific Source Categories,” which are both EPA memoranda issued by the Office of Air Quality Planning Standards. EPA has reviewed Tennessee's requested changes to the Knox County Air Quality Management Regulations, and has concluded that the addition of Section 25.11 is consistent with the CAA.

III. Incorporation by Reference

In this rule, EPA is finalizing regulatory text that includes incorporation by reference. In accordance with requirements of 1 CFR 51.5, EPA is finalizing the incorporation by reference of Knox County Air Quality Management Regulations section 25.11, Limiting a Source's Potential to Emit of VOC by Recordkeeping. The EPA has made, and will continue to make, these documents generally available electronically through www.regulations.gov and/or in hard copy at the appropriate EPA office (see the ADDRESSES section of this preamble for more information).

IV. Final Action

EPA is approving a portion of Tennessee's March 14, 2014, SIP revision addressing changes to a Knox County regulation regarding permits. EPA is publishing this rule without prior proposal because the Agency views this as a noncontroversial submittal and anticipates no adverse comments. However, in the proposed rules section of this Federal Register publication, EPA is publishing a separate document that will serve as the proposal to approve the SIP revision should adverse comments be filed. This rule will be effective June 21, 2016 without further notice unless the Agency receives adverse comments by May 23, 2016.

If EPA receives such comments, then EPA will publish a document withdrawing the final rule and informing the public that the rule will not take effect. All public comments received will then be addressed in a subsequent final rule based on the proposed rule. EPA will not institute a second comment period. Parties interested in commenting should do so at this time. If no such comments are received, the public is advised that this rule will be effective on June 21, 2016 and no further action will be taken on the proposed rule.

V. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act(44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 21, 2016. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. See section 307(b)(2).

List of Subjects in 40 CFR Part 52

Environmental protection, Air pollution control, Incorporation by reference, Intergovernmental relations, Reporting and recordkeeping requirements, Volatile organic compounds.

Dated: April 6, 2016.
Heather McTeer Toney,
Regional Administrator, Region 4.

40 CFR part 52 is amended as follows:

PART 52—APPROVAL AND PROMULGATION OF IMPLEMENTATION PLANS

1. The authority citation for part 52 continues to read as follows:

Authority: 42 U.S.C. 7401 et seq.

Subpart RR—Tennessee

2. In § 52.2220, table 3 in paragraph (c) is amended by revising the entry for “Section 25.0” to read as follows:

§ 52.2220 Identification of plan.

* * * * *

(c) * * *

Table 3—EPA Approved Knox County, Regulations
State section | Title/subject | State effective date | EPA approval date | Explanation
* * * * * * *
25.0 | Permits | 3/12/2014 | 4/22/2016 [Insert Federal Register citation] |
* * * * * * *

* * * * *

[FR Doc. 2016-09159 Filed 4-21-16; 8:45 am]

BILLING CODE 6560-50-P